DEPARTMENT OF COMMERCE

National Oceanic and Atmospheric Administration

[I.D. 010901D]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a meeting of its Marine Reserves Committee in Charleston, SC.

DATES: The Marine Reserves Committee will meet February 6, 2001, from 7 p.m until 9 p.m., on February 7, from 8:30 a.m. until 5 p.m., and on February 8, from 8:30 a.m. until 10:30 a.m.

ADDRESSES: These meetings will be held at the Town and Country Inn, 2008 Savannah Highway, Charleston, SC 29407; telephone: 843-571-1000.

FOR FURTHER INFORMATION CONTACT: Kim Iverson, Public Information Officer; telephone: (843) 571-4366; fax: (843) 769-4520; email: kim.iverson@noaa.gov.

SUPPLEMENTARY INFORMATION: The Marine Reserves Committee will meet to develop recommendations to send to the full Council. The Committee will review the Council's current definition of a marine reserve, review the Council's goals for marine reserves, establish criteria necessary to meet the goals and draft an outline for the scoping document that will be used in the next phase of the process for utilizing marine reserves.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by February 1, 2001.

Dated: January 10, 2001.
Richard W. Surdi,
Acting Director, Office of Sustainable Fisheries, National Marine Fisheries Service.

[FR Doc. 01-1375 Filed 1-16-01; 8:45 am]

BILLING CODE 3510-22-S